DEPARTMENT OF LABOR

Employment and Training Administration

[TA-W-61,324]

Ford Motor Company, Vehicle Operations Division, Wixom Assembly Plant, Wixom, MI; Notice of Affirmative Determination Regarding Application for Reconsideration

By application dated June 22, 2007, the United Automobile, Aerospace & Agricultural Implement Workers of America requested administrative reconsideration of the Department of Labor's Notice of Negative Determination Regarding Eligibility to Apply for Worker Adjustment Assistance, applicable to workers and former workers of the subject firm. The determination was signed on May 7, 2007 and published in the Federal Register on May 24, 2007 (72 FR 29182).

The initial investigation resulted in a negative determination based on the finding that imports of vehicles like or directly competitive with the Lincoln Towncar did not contribute importantly to worker separations at the subject firm and no shift of production to a foreign source occurred.

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed in Washington, DC, this 10th day of July, 2007.
Elliott S. Kushner,
Certifying Officer, Division of Trade Adjustment Assistance.

[FR Doc. E7-13786 Filed 7-16-07; 8:45 am]

BILLING CODE 4510-FN-P